DEPARTMENT OF TRANSPORTATION

Federal Aviation Administration

Membership in the National Parks Overflights Advisory Group Aviation Rulemaking Committee

AGENCIES: Federal Aviation Administration (FAA), DOT.

ACTION: Notice.

SUMMARY: The National Park Service (NPS) and the Federal Aviation Administration (FAA), as required by the National Parks Air Tour Management Act of 2000, established the National Parks Overflights Advisory Group (NPOAG) in March 2001. The NPOAG was formed to provide continuing advice and counsel with respect to commercial air tour operations over and near national parks. On October 10, 2003, the Administrator signed Order No. 1110-138 establishing the NPOAG as an aviation rulemaking committee (ARC). This notice informs the public of a vacancy on the NPOAG ARC, for a member representing air Indian tribal interests, and invites interested persons to apply to fill the vacancy.

FOR FURTHER INFORMATION CONTACT: Barry Brayer, Executive Resource Staff, Western Pacific Region Headquarters, 15000 Aviation Blvd., Hawthorne, CA 90250, telephone: (310) 725-3800, E-mail: Barry.Brayer@faa.gov, or Karen Trevino, National Park Service, Natural Sounds Program, 1201 Oakridge Dr., Suite 350, Ft. Collins, CO 80525, telephone (970) 225-3563, or Karen_Trevino@nps.gov.

SUPPLEMENTARY INFORMATION:

Background

The National Parks Air Tour Management Act of 2000 (the Act) was enacted on April 5, 2000, as Public Law 106-181. The Act required the establishment of the advisory group within 1 year after its enactment. The NPOAG was established in March 2001. The advisory group is comprised of a balanced group of representatives of general aviation, commercial air tour operations, environmental concerns, and Native American tribes. The Administrator and the Director (or their designees) serve as ex officio members of the group. Representatives of the Administrator and Director serve alternating 1-year terms as chairman of the advisory group.

By Order No. 1110-138, October 10, 2003, the NPOAG became an aviation rulemaking committee (ARC).

The NPOAG ARC provides “advice, information, and recommendations to the Administrator and the Director—

(1) On the implementation of this title [the Act] and the amendments made by this title;

(2) On commonly accepted quiet aircraft technology for use in commercial air tour operations over a national park or tribal lands, which will receive preferential treatment in a given air tour management plan;

(3) On other measures that might be taken to accommodate the interests of visitors to national parks; and

(4) At the request of the Administrator and the Director, safety, environmental, and other issues related to commercial air tour operations over a national park or tribal lands.”

Members of the NPOAG ARC may be allowed certain travel expenses as authorized by section 5703 of title 5, United States Code, for intermittent Government Service.

The NPOAG ARC is made up of four members representing the air tour industry, four members representing environmental interests, and two members representing Native American interests.

Public Participation in the NPOAG ARC

In order to maintain the balanced representation of the group, the FAA and the NPS invite persons interested in serving on the NPOAG ARC to represent Indian Tribal interests to contact either of the persons listed in FOR FURTHER INFORMATION CONTACT. Requests to serve on the NPOAG ARC should be made in writing and postmarked on or before. The request should indicate the Indian tribe that you are a member of, and what expertise you would bring to Native American interests while serving on the NPOAG. The term of service for NPOAG members is 3 years.

Issued in Washington, DC on August 26, 2005.
William C. Withycombe,
Regional Administrator, Western-Pacific Region.

[FR Doc. 05-17385 Filed 8-31-05; 8:45 am]

BILLING CODE 4910-13-P